DEPARTMENT OF AGRICULTURE

Natural Resources Conservation Service

Notice of Proposed Changes to the Natural Resources Conservation Service's National Handbook of Conservation Practices

AGENCY: Natural Resources Conservation Service, USDA.

ACTION: Notice of availability of proposed changes in the Natural Resources Conservation Service (NRCS) National Handbook of Conservation Practices for public review and comment.

SUMMARY: Notice is hereby given of the intention of NRCS to issue a series of revised conservation practice standards in its National Handbook of Conservation Practices. These standards include: Deep Tillage (Code 324); Waste Transfer (Code 634); and, Road/Trail/Landing Closure and Treatment (Code 654). NRCS State Conservationists who choose to adopt these practices for use within their States will incorporate them into Section IV of their respective electronic Field Office Technical Guide. These practices may be used in conservation systems that treat highly erodible land or on land determined to be a wetland.

DATES: Effective Dates: Comments will be received for a 30-day period commencing with this date of publication. Final versions of these new or revised conservation practice standards will be adopted after the close of the 30-day period and after consideration of all comments.

ADDRESSES: Comments should be submitted by one of the following methods:

1. In writing to: Noller Herbert, Director, Conservation Engineering Division, Natural Resources Conservation Service, Post Office Box 2890, Washington, DC 20013-2890; or

2. Electronically via e-mail to: Noller.herbert@wdc.usda.gov.

FOR FURTHER INFORMATION: Copies of these standards can be downloaded or printed from the following Web site: ftp://ftp-fc.sc.egov.usda.gov/NHQ/practice-standards/federal-register/. Single copies of paper versions of these standards also are available from NRCS in Washington, DC. Submit individual inquiries in writing to Noller Herbert, Director, Conservation Engineering Division, Natural Resources Conservation Service, Post Office Box 2890, Room 6139-South, Washington, DC 20013-2890; or e-mail: Noller.herbert@wdc.usda.gov.

SUPPLEMENTARY INFORMATION: The amount of the proposed changes varies considerably for each of the Conservation Practice Standards addressed in this Notice. To fully understand the proposed changes, individuals are encouraged to compare these changes with each standard's current version shown at: http://www.nrcs.usda.gov/technical/Standards/nhcp.html. To aid in this comparison, the following are highlights of the proposed revisions to each standard:

Deep Tillage (Code 324)—Only minor edits were made to this standard.

Waste Transfer (Code 634)—This practice standard was expanded to encompass manure and other by-products of agricultural operations. Previously, the standard only addressed manure.

(a) This standard applies where excess by-products (wastes) accumulate and can be transferred to an area for utilization as a resource.

(b) The Criteria Section is expanded by adding a description of solid-liquid separation and a clarification of clean-out access requirements.

Road/Trail/Landing Closure and Treatment (Code 654)—This is a new practice standard developed to address primarily the closure of existing farm, ranch, and forest roads to minimize their environmental impact.

Section 343 of the Federal Agriculture Improvement and Reform Act of 1996 requires NRCS to make available for public review and comment all proposed revisions to conservation practice standards used to carry out the highly erodible land and wetland provisions of the law. For the next 30 days, NRCS will receive comments relative to the proposed changes. Following that period, a determination will be made by NRCS regarding disposition of those comments, and a final determination of changes will be made.

Signed in Washington, DC, on September 4, 2008.
Arlen L. Lancaster,
Chief.

[FR Doc. E8-21653 Filed 9-16-08; 8:45 am]

BILLING CODE 3410-16-P